DEPARTMENT OF TRANSPORTATION

National Highway Traffic Safety Administration

[Docket No. DOT-NHTSA-2020-104]

National Emergency Medical Services Advisory Council; Notice of Public Meeting

AGENCY: National Highway Traffic Safety Administration, U.S. Department of Transportation (DOT).

ACTION: Notice of public meeting.

SUMMARY: This notice announces a meeting of the National Emergency Medical Services Advisory Council (NEMSAC).

DATES: The meeting will be held August 11-12, 2021, from 9:00 a.m. to 5:00 p.m. EDT Requests to attend the meeting must be received by August 6, 2021.

Requests for accommodations to a disability must be received by August 6, 2021.

If you wish to speak during the meeting, you must submit a written copy of your remarks to DOT by August 6, 2021.

Requests to submit written materials to be reviewed during the meeting must be received no later than August 6, 2021.

ADDRESSES: The meeting will be held virtually (depending on the status of the Coronavirus Disease 2019 (COVID-19) public health emergency) or at the U.S. Department of Transportation, 1200 New Jersey Avenue SE, Washington, DC 20590. Copies of the meeting minutes will be available on the NEMSAC internet website at EMS.gov. The detailed agenda will be posted on the NEMSAC internet website at EMS.gov at least one week in advance of the meeting.

FOR FURTHER INFORMATION CONTACT: Clary Mole, EMS Specialist, U.S. Department of Transportation, at Clary.Mole@DOT.gov or 202.366.2795. Any committee related requests should be sent to the person listed in this section.

SUPPLEMENTARY INFORMATION:

I. Background

The NEMSAC was established pursuant to Section 31108 of the Moving Ahead for Progress in the 21st Century (MAP-21) Act of 2012, under the Federal Advisory Committee Act. The purpose of NEMSAC is to serve as a nationally recognized council of emergency medical services (EMS) representatives to provide advice and consult with:

a. The Federal Interagency Committee on Emergency Medical Services (FICEMS) on matters relating to EMS issues; and

b. The Secretary of Transportation on matters relating to EMS issues affecting DOT.

The NEMSAC provides an important national forum for the non-Federal deliberation of national EMS issues and serves as a platform for advice on DOT's national EMS activities. NEMSAC also provides advice and recommendations to the FICEMS. NEMSAC is authorized under Section 31108 of the MAP-21 Act of 2012, codified at 42 U.S.C. 300d-4.

II. Agenda

At the meeting, the agenda will cover the following topics:

• Updates from Federal Emergency Services Liaisons

• Updates on the FICEMS Initiatives

• Updates on NHTSA Initiatives

• Committee Reports

III. Public Participation

The meeting will be open to the public. Members of the public who wish to attend in person must RSVP to the person listed in the FOR FURTHER INFORMATION CONTACT section with your name and affiliation. The U.S. Department of Transportation is committed to providing equal access to this meeting for all participants. If you need alternative formats or services because of a disability, such as sign language, interpretation, or other ancillary aids, please contact the person listed in the FOR FURTHER INFORMATION CONTACT section no later than the deadline listed in the DATES section.

There will be a thirty (30) minute period allotted for comments from members of the public joining the meeting. To accommodate as many speakers as possible, the time for each commenter may be limited. Individuals wishing to reserve speaking time during the meeting must submit a request at the time of registration, as well as the name, address, and organizational affiliation of the proposed speaker. If the number of registrants requesting to make statements is greater than can be reasonably accommodated during the meeting, the NHTSA office of EMS may conduct a lottery to determine the speakers. Speakers are requested to submit a written copy of their prepared remarks for inclusion in the meeting records and for circulation to NEMSAC members. All prepared remarks submitted on time will be accepted and considered as part of the record. Any member of the public may present a written statement to the committee at any time.

Authority: 42 U.S.C. 300d-4(b); 49 CFR part 1.95(i)(4).

Issued in Washington, DC.
Nanda Narayanan Srinivasan,
Associate Administrator, Research and Program Development.

[FR Doc. 2021-00162 Filed 1-7-21; 8:45 am]

BILLING CODE 4910-59-P